DEPARTMENT OF COMMERCE

International Trade Administration

[A-570-901]

Certain Lined Paper Products From the People's Republic of China: Preliminary Results and Rescission in Part of Antidumping Duty Administrative Review; 2011-2012

AGENCY: Import Administration, International Trade Administration, U.S. Department of Commerce.

SUMMARY: The Department of Commerce (“the Department”) is conducting an administrative review of the antidumping duty order on certain lined paper products (“CLPP”) from the People's Republic of China (“PRC”). The period of review (“POR”) is September 1, 2011, through August 31, 2012. Of the three companies requested for review, the Department has preliminarily determined that Leo's Quality Products Co., Ltd./Denmax Plastic Stationery Factory (“Leo's/Denmax”) did not cooperate and will be treated as part of the PRC-wide entity; Shanghai Lian Li Paper Products Co., Ltd. (“Lian Li”) made no shipments of subject merchandise during the POR and will retain its separate rate status; and Hwa Fuh Plastics Co., Ltd./Li Teng Plastics (Shenzhen) Co., Ltd. (“Hwa Fuh/Li Teng”) could not be contacted so review of this company will be rescinded.

DATES: Effective Date: June 10, 2013.

FOR FURTHER INFORMATION CONTACT: Cindy Robinson or Eric B. Greynolds, AD/CVD Operations, Office 8, Import Administration, International Trade Administration, U.S. Department of Commerce, 14th Street and Constitution Avenue NW., Washington DC 20230; telephone (202) 482-3797 or (202) 482-6071, respectively.

Scope of the Order

The merchandise subject by the CLPP Order is certain lined paper products.¹ The products are currently classified under the following Harmonized Tariff Schedule of the United States (“HTSUS”) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description in the CLPP Order ² remains dispositive.³

¹ See Notice of Amended Final Determination of Sales at Less Than Fair Value: Certain Lined Paper Products from the People's Republic of China; Notice of Antidumping Duty Orders: Certain Lined Paper Products from India, Indonesia, and the People's Republic of China; and Notice of Countervailing Duty Orders: Certain Lined Paper Products from India and Indonesia, 71 FR 56949 (September 28, 2006) (“CLPP Order”).

² Id.

³ For a complete description of the scope of the order, see “Decision Memorandum for Preliminary Results of 2011-2012 Antidumping Duty Administrative Review: Certain Lined Paper Products from the People's Republic of China” (“Preliminary Decision Memorandum”) from Christian Marsh, Deputy Assistant Secretary for Antidumping and Countervailing Duty Operations to Paul Piquado, Assistant Secretary for Import Administration, dated concurrently with these preliminary results.

Methodology

The Department has conducted this review in accordance with section 751(a)(1)(A) of the Tariff Act of 1930, as amended (“the Act”). In making our findings, we have relied, in part, on facts available, and because Leo's/Denmax did not act to the best of its ability to respond to the Department's requests for information, we have drawn an adverse inference in selecting from among the facts otherwise available. In addition, we assigned a dumping margin to the separate rate recipients based on Departmental practice which is described in the “Separate Rates” section below.

For a full description of the methodology underlying our conclusions, see “Preliminary Decision Memorandum,” dated concurrently with these preliminary results and hereby adopted by this notice. The Preliminary Decision Memorandum is a public document and is on file electronically via Import Administration's Antidumping and Countervailing Duty Centralized Electronic Service System (“IA ACCESS”). IA ACCESS is available to registered users at http://iaaccess.trade.gov, and it is available to all parties in the Central Records Unit (“CRU”), room 7046 of the main Department of Commerce building. In addition, a complete version of the Preliminary Decision Memorandum can be accessed directly on the internet at http://www.trade.gov/ia/. The signed Preliminary Decision Memorandum and the electronic versions of the Preliminary Decision Memorandum are identical in content.

Preliminary Finding of No Sales Made During the POR

Due to Lian Li's timely certification of non-shipment of subject merchandise to the United States during the POR, and our analysis of U.S. Customs and Border Protection (“CBP”) information, the Department preliminarily determines that Lian Li had no sales of subject merchandise during the POR. In addition, the Department finds that consistent with its recently announced refinement to its assessment practice in non-market economy (“NME”) cases,⁴ it is not appropriate to rescind the review with respect to Lian Li, but, rather, to complete the review with respect to Lian Li and issue appropriate instructions to CBP based on the final results of the review.

⁴ See Non-Market Economy Antidumping Proceedings: Assessment of Antidumping Duties, 76 FR 65694 (October 24, 2011) and the “Assessment Rates” section below.

Intent To Rescind the Review, in Part

With respect to Hwa Fuh/Li Teng, the Department was unable to deliver the initial questionnaire to Hwa Fu/Li Teng using the address provided by petitioner ⁵ in its 2011-2012 administrative review request letter.⁶ Therefore, the Department intends to rescind the review with respect to Hwa Fuh/Li Teng, in accordance with our practice, from which we see no reason to deviate here.⁷

⁵ Petitioner is the Association of American School Lined Paper Suppliers (“AASPS”) and its individual members: Norcom Inc., Top Flight, Inc. and ACCO Brands USA LLC (collectively, “petitioner”).

⁶ See Preliminary Decision Memorandum for details.

⁷ See Certain Steel Concrete Reinforcing Bars from Turkey; Preliminary Results and Partial Rescission of Antidumping Duty Administrative Review, 71 FR 26,455, 26,457 (May 5, 2006) (unchanged in Certain Steel Concrete Reinforcing Bars From Turkey: Final Results and Rescission of Antidumping Duty Administrative Review in Part, 71 FR 65082 (November 7, 2006)); see also Certain Frozen Warmwater Shrimp from India: Preliminary Results and Partial Rescission of Antidumping Duty Administrative Review, 72 FR 10,658, (March 9, 2007) (unchanged in Certain Frozen Warmwater Shrimp from India: Final Results and Partial Rescission of Antidumping Duty Administrative Review, 72 FR 52055 (September 12, 2007)).

Separate Rates

In the Initiation Notice,⁸ we informed parties of the opportunity to request a separate rate. In proceedings involving NME countries, the Department begins with a rebuttable presumption that all companies within the country are subject to government control and, thus, should be assigned a single antidumping duty deposit rate. It is the Department's policy to assign all exporters of merchandise subject to an administrative review involving an NME country this single rate unless an exporter can demonstrate that it is sufficiently independent so as to be entitled to a separate rate. Companies that wanted to be considered for a separate rate in this review were required to timely file a separate rate application or a separate rate certification to demonstrate eligibility for a separate rate. Separate rate applications and separate rate certifications were due to the Department within 60 calendar days of the publication of the Initiation Notice.

⁸ See Initiation of Antidumping and Countervailing Duty Administrative Reviews and Request for Revocation in Part, 77 FR 65858 (October 31, 2012) (“Initiation Notice”).

In this review, Leo's/Denmax did not respond to the Department's questionnaire nor file any information with the Department's IA ACCESS system, as required by 19 CFR 351.303, to rebut the presumption that like all companies within the PRC it is subject to government control. As further discussed in the Preliminarily Decision Memo, we determine that Leo's/Denmax has not demonstrated that it operates free from government control. Thus, we find that for purposes of the preliminary results of this review, Leo's/Denmax is part of the PRC-wide entity.

Preliminary Results of the Review

The following preliminary dumping margin exists for the period September 1, 2011, through August 31, 2012:

Exporter | Weighted-average dumping margin (percent)
PRC-wide entity (which includes Leo's/Denmax) | 258.21

Disclosure and Public Comment

Pursuant to 19 CFR 351.309(c), interested parties may submit cases briefs not later than the later of 30 days after the date of publication of this notice. Rebuttal briefs, limited to issues raised in the case briefs, may be filed not later than five days after the date for filing case briefs.⁹ Parties who submit case briefs or rebuttal briefs in this proceeding are encouraged to submit with each argument: (1) A brief summary of the argument not to exceed five pages, and (2) a table of statutes, regulations and cases cited.¹⁰ Case and rebuttal briefs should be filed using IA ACCESS.¹¹

⁹ See 19 CFR 351.309(d).

¹⁰ See 19 CFR 351.309(c)(2) and (d)(2).

¹¹ See 19 CFR 351.303.

Pursuant to 19 CFR 351.310(c), interested parties who wish to request a hearing, or to participate if one is requested, must submit a written request to the Assistant Secretary for Import Administration, filed electronically via IA ACCESS within 30 days after the date of publication of this notice.¹² Requests should contain: (1) The party's name, address, and telephone number; (2) the number of participants; and (3) a list of the issues to be discussed. Issues raised in the hearing will be limited to those raised in the respective case briefs. If a request for a hearing is made, parties will be notified of the time and date for the hearing to be held at the U.S. Department of Commerce, 1401 Constitution Avenue NW., Washington, DC 20230.

¹² See 19 CFR 351.310(c).

The Department will issue the final results of this administrative review, including the results of its analysis of the issues raised by the parties in any written briefs, not later 120 days after the date of publication of this notice, pursuant to section 751(a)(3)(A) of the Act.

Assessment Rate

Upon issuance of the final results, the Department shall determine, and CBP shall assess, antidumping duties on all appropriate entries covered by this review.¹³ The Department intends to issue assessment instructions to CBP 15 days after the publication date of the final results of this review.

¹³ See 19 CFR 351.212(b)(1).

For any individually examined respondents whose weighted-average dumping margin is above de minimis, we will calculate importer-specific ad valorem duty assessment rates based on the ratio of the total amount of dumping calculated for the importer's examined sales to the total entered value of those same sales in accordance with 19 CFR 351.212(b)(1). We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties.

For the PRC-wide entity, we will instruct CBP to assess antidumping duties at an ad valorem rate equal to the weighted-average dumping margin published above.

Cash Deposit Requirements

The following cash deposit requirements will be effective upon publication of the final results of this administrative review for shipments of the subject merchandise from the PRC entered, or withdrawn from warehouse, for consumption on or after the publication date of the final results, as provided by sections 751(a)(2)(C) of the Act: (1) For previously investigated or reviewed PRC and non-PRC exporters not listed above that received a separate rate in a prior segment of this proceeding, the cash deposit rate will continue to be the existing exporter-specific rate published for the most recently completed period; (2) for all PRC exporters of subject merchandise that have not been found to be entitled to a separate rate, the cash deposit rate will be the rate for the PRC-wide entity, 258.21 percent; and (3) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213.

Dated: June 3, 2013.
Paul Piquado,
Assistant Secretary for Import Administration.

Appendix

I. Summary

II. Background

III. Scope

IV. Discussion of the Methodology

V. Conclusion

[FR Doc. 2013-13698 Filed 6-7-13; 8:45 am]

BILLING CODE 3510-DS-P